DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more individuals and entities that have been placed on OFAC's Specially Designated Nationals and Blocked Persons List (SDN List). OFAC has determined that one or more applicable legal criteria were satisfied to place the individuals and entities on the SDN List. All property and interests in property subject to U.S. jurisdiction of these individuals and entities are blocked, and U.S. persons are generally prohibited from engaging in transactions with them.

DATES: See SUPPLEMENTARY INFORMATION section for applicable date(s).

FOR FURTHER INFORMATION CONTACT:

OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action(s)

On October 9, 2020, OFAC determined that the property and interests in property subject to U.S. jurisdiction of the following individuals and entity are blocked under the relevant sanctions authorities listed below.

Individuals

1. GUIDO DE ROMERO, Ana Julia, Iglesia, Nicaragua; DOB 16 Feb 1959; POB Matagalpa, Nicaragua; nationality Nicaragua; Gender Female; Passport A00000211 (Nicaragua) issued 14 Aug 2012 expires 14 Aug 2022 (individual) [NICARAGUA].

Designated pursuant to section 1(a)(iii) of Executive Order 13851 of November 27, 2018, “Blocking Property of Certain Persons Contributing to the Situation in Nicaragua,” 83 FR 61505, (“E.O. 13851”), for being an official of the Government of Nicaragua or having served as an official of the Government of Nicaragua at any time on or after January 10, 2007.

2. OQUIST KELLEY, Paul Herbert, Managua, Nicaragua; DOB 19 Oct 1943; POB Oak Park, Illinois, United States; nationality Nicaragua; Gender Male; Passport A00001478 (Nicaragua) issued 27 Jul 2018 expires 27 Jul 2028 (individual) [NICARAGUA].

Designated pursuant to section 1(a)(iii) of E.O. 13851 for being an official of the Government of Nicaragua or having served as an official of the Government of Nicaragua at any time on or after January 10, 2007.

Entity

1. COOPERATIVA DE AHORRO Y CREDITO CAJA RURAL NACIONAL RL (a.k.a. CARUNA RL), Calle 14 de Septiembre, Puente, el Eden 5 cuadras al Oeste, Managua, Nicaragua; Nicaragua; Costado Oeste del Registro de la Propiedad, Contiguo a la Farmacia del INSS, Colonia Centroamerica, Managua, Nicaragua; website www.caruna.com.ni; D-U-N-S Number 85-244-5670; Organization Established Date 13 Oct 1993; Organization Type: Other financial service activities, except insurance and pension funding activities, n.e.c.; all locations in Nicaragua [NICARAGUA] (Linked To: BANCO CORPORATIVO SA).

Designated pursuant to section 1(a)(iv) of E.O. 13851 for having materially assisted, sponsored, or provided financial, material, or technological support for, or goods or services in support of, Banco Corporativo SA, a person whose property and interests in property are blocked pursuant to E.O. 13851.

Dated: October 9, 2020.
Bradley Smith,
Deputy Director, Office of Foreign Assets Control, U.S. Department of the Treasury.

[FR Doc. 2020-23409 Filed 10-21-20; 8:45 am]

BILLING CODE 4810-AL-P